FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted November 1, 2016 Thru November 30, 2016
11/01/2016
20170004 | G | Sofina s.a.; BCP CC Holdings L.P.; Sofina s.a.
20170060 | G | Roche Holding Ltd; Hanmi Pharmaceutical Co., Ltd.; Roche Holding Ltd
20170110 | G | Wellspring Capital Partners V, L.P.; MM Hoffmaster Holdings L.P.; Wellspring Capital Partners V, L.P.
11/02/2016
20161726 | G | Berry Plastics Group, Inc.; AEP Industries Inc.; Berry Plastics Group, Inc.
20170008 | G | Tech Data Corporation; Avnet, Inc.; Tech Data Corporation.
20170013 | G | B&G Foods, Inc.; The Garfield Weston Charitable Foundation; B&G Foods, Inc.
20170114 | G | RHI AG; Magnesita Refratarios S.A.; RHI AG.
11/03/2016
20170104 | G | Tenex Capital Partners II, L.P.; Pugh Oil Company, Inc.; Tenex Capital Partners II, L.P.
11/04/2016
20170026 | G | Francisco Partners IV, L.P.; Eric and Amy Huang Legacy Trust u/a 9/30/11; Francisco Partners IV, L.P.
20170027 | G | Francisco Partners IV, L.P.; Amy B. Huang Legacy Trust u/a 2/1/12; Francisco Partners IV, L.P.
20170084 | G | Equistone V FPCI; Wayzata Opportunities Fund II, L.P.; Equistone V FPCI.
20170117 | G | Comvest Investment Partners V, L.P.; Lasko Group, Inc.; Comvest Investment Partners V, L.P.
20170118 | G | Acrisure Investors FO, LLC; Genstar Capital Partners VI, L.P.; Acrisure Investors FO, LLC.
20170124 | G | Onex Partners IV LP; Supervalu Inc.; Onex Partners IV LP.
20170125 | G | Wynnchurch Capital Partners IV, L.P.; Rosboro, LLC; Wynnchurch Capital Partners IV, L.P.
20170126 | G | Kayne Anderson Energy Fund VI, L.P.; RSP Permian, Inc.; Kayne Anderson Energy Fund VI, L.P.
20170127 | G | Kayne Anderson Energy Fund VII, L.P.; RSP Permian, Inc.; Kayne Anderson Energy Fund VII, L.P.
20170132 | G | Nationwide Mutual Insurance Company; JNF Investors LLC; Nationwide Mutual Insurance Company.
20170135 | G | Carlyle Partners VI Cayman, L.P.; Total S.A.; Carlyle Partners VI Cayman, L.P.
20170138 | G | ITOCHU Corporation; Empire Gen Holdings, Inc.; ITOCHU Corporation.
20170145 | G | Unibel; White Knight VIII FPCI; Unibel.
11/07/2016
20170035 | G | Warburg Pincus Private Equity XII, L.P.; Ascentium Capital LLC; Warburg Pincus Private Equity XII, L.P.
20170039 | G | Hanwha General Chemical Co., Ltd.; Hanwha Q Cells Korea Corp.; Hanwha General Chemical Co., Ltd.
20170071 | G | Allergan plc; AstraZeneca PLC; Allergan plc.
20170115 | G | Verizon Communications Inc.; AT&T Inc.; Verizon Communications Inc.
20170116 | G | AT&T Inc.; Verizon Communications Inc.; AT&T Inc.
20170123 | G | Novartis AG; Selexys Pharmaceuticals Corporation; Novartis AG.
20170147 | G | Hainan Cihang Charitable Foundation; CIT Group Inc.; Hainan Cihang Charitable Foundation.
20170157 | G | H.I.G. Middle Market LBO Fund II, L.P.; Mercury Capital, L.P.; H.I.G. Middle Market LBO Fund II, L.P.
11/08/2016
20170085 | G | Endeavour Capital Fund VII, L.P.; OFD Holdco, Inc.; Endeavour Capital Fund VII, L.P.
20170130 | G | Oaktree Principal Fund VI, L.P.; SunOpta, Inc.; Oaktree Principal Fund VI, L.P.
20170142 | G | AEA Investors Fund VI LP; CHS Private Equity V L.P.; AEA Investors Fund VI LP.
11/10/2016
20161294 | G | Promotora de Inversiones Mexicanas, S.A.; CEMEX S.A.B. de C.V.; Promotora de Inversiones Mexicanas, S.A.
20170152 | G | Platte River Equity III, L.P.; H. J. Baker & Bro., Inc.; Platte River Equity III, LP.
11/14/2016
20170119 | G | HKW Capital Partners IV, L.P.; Xirgo Technologies, Inc.; HKW Capital Partners IV, L.P.
20170133 | G | j2 Global, Inc.; Everyday Health, Inc.; j2 Global, Inc.
11/15/2016
20160836 | G | Verizon Communications Inc.; Carl C. Icahn; Verizon Communications Inc.
20170153 | G | Mitsubishi Materials Corporation; Nordic Capital V, L.P.; Mitsubishi Materials Corporation.
20170154 | G | CONSOL Energy Inc.; Noble Energy, Inc.; CONSOL Energy Inc.
20170158 | G | Quad-C Partners VIII, L.P.; Fusion Partners, LLC; Quad-C Partners VIII, L.P.
20170160 | G | Buckeye Partners, L.P.; Vitol Investment Partnership Limited; Buckeye Partners, L.P.
20170161 | G | Buckeye Partners, L.P.; Vitol Holding B.V.; Buckeye Partners, L.P.
20170168 | G | Quantum Energy Partners VI, LP; Freeport-McMoRan Inc.; Quantum Energy Partners VI, LP.
20170176 | G | Soohyung Kim; Twin River Worldwide Holdings, Inc.; Soohyung Kim.
20170177 | G | InPhi Corporation; ClariPhy Communications, Inc.; InPhi Corporation.
20170183 | G | Quad-C Partners VIII, L.P.; Wells Fargo & Company; Quad-C Partners VIII, L.P.
20170190 | G | Richard Webb; Kinder Morgan, Inc.; Richard Webb.
20170191 | G | Galanos Investments L.P.; KPS Special Situations Fund IV, LP; Galanos Investments L.P.
11/16/2016
20170170 | G | Audax Private Equity Fund V-A, L.P.; Silver Oak Services Partners, L.P.; Audax Private Equity Fund V-A, L.P.
20170196 | G | PMHC II, Inc.; Eramet, S.A.; PMHC II, Inc.
11/17/2016
20170129 | G | Amgen Inc.; Arrowhead Pharmaceuticals, Inc.; Amgen Inc.
20170164 | G | Daiichi Sankyo Co., Ltd.; Inspirion Delivery Technologies LLC; Daiichi Sankyo Co., Ltd.
20170167 | G | NextEra Energy, Inc.; Energy Future Holdings Corp.; NextEra Energy, Inc.
20170187 | G | Thomas A. Garrett; Cerberus Partners, L.P.; Thomas A. Garrett.
20170188 | G | Archrock Partners, L.P.; Archrock, Inc.; Archrock Partners, L.P.
11/18/2016
20170097 | G | CBOE Holdings, Inc.; Bats Global Markets; CBOE Holdings, Inc.
20170102 | G | Joseph Mansueto; PitchBook Data, Inc.; Joseph Mansueto.
20170162 | G | Constellation Brands, Inc.; Eugenie Patri Sebastien EPS, SA; Constellation Brands, Inc.
20170163 | G | Constellation Brands, Inc.; Jorge Paulo Lemann; Constellation Brands, Inc.
11/21/2016
20161824 | G | Blackfriars Corp.; Saudi Basic Industries Corp.; Blackfriars Corp.
20170209 | G | Odyssey Investment Partners Fund V, L.P.; HSM Tek, Inc.; Odyssey Investment Partners Fund V, L.P.
20170215 | G | SG Growth Partners III, LP; Weston Presidio V, L.P.; SG Growth Partners III, LP.
20170220 | G | Enviva Partners, LP; Riverstone/Carlyle Renewable and Alternative Energy Fund II,; Enviva Partners, LP.
20170225 | G | Sun Hydraulics Corporation; Frank W. Murphy III; Sun Hydraulics Corporation.
20170229 | G | Bain Capital Europe Fund IV, L.P.; ASF Park Acquisition LP; Bain Capital Europe Fund IV, L.P.
20170250 | G | Bed Bath & Beyond Inc.; Daniel R. Randolph; Bed Bath & Beyond Inc.
11/22/2016
20170208 | G | Nestle S.A.; Aimmune Therapeutics, Inc.; Nestle S.A.
11/23/2016
20170137 | G | Henderson Group plc; Janus Capital Group Inc.; Henderson Group plc.
20170173 | G | Huntington Ingalls Industries, Inc.; New Mountain Partners III, L.P.; Huntington Ingalls Industries, Inc.
20170174 | G | BW NHHC Co-Invest, L.P.; Wellspring Capital Partners V, L.P.; BW NHHC Co-Invest, L.P.
20170179 | G | Comcast Corporation; Racecar Holdings, LLC; Comcast Corporation.
20170180 | G | Steven E. Grosser; Racecar Holdings, LLC; Steven E. Grosser.
20170181 | G | Patrick J. McAdaragh; Racecar Holdings, LLC; Patrick J. McAdaragh.
20170217 | G | Synopsys, Inc.; LLR Equity Partners IV, L.P.; Synopsys, Inc.
11/28/2016
20170113 | G | Micro Focus International plc; Hewlett Packard Enterprise Company; Micro Focus International plc.
20170136 | G | GTCR Fund XI/A LP; DPC Holdings, LLC; GTCR Fund XI/A LP.
20170156 | G | Lintec Corporation; Platinum Equity Capital Evergreen Partners, L.P.; Lintec Corporation.
20170213 | G | HollyFrontier Corporation; Suncor Energy Inc.; HollyFrontier Corporation.
20170218 | G | SpeedCast International Limited; Harris Corporation; SpeedCast International Limited.
20170226 | G | The Kansai Electric Power Co., Inc.; Marubeni Corporation; The Kansai Electric Power Co., Inc.
20170228 | G | American Midstream Partners, LP; ArcLight Energy Partners Fund V, L.P.; American Midstream Partners, LP.
20170234 | G | Shangtex Holding Co. Ltd.; Dr. Henry Tan; Shangtex Holding Co. Ltd.
20170238 | G | JLL Partners Fund VII, L.P.; MedPlast Holdings, Inc.; JLL Partners Fund VII, L.P.
20170239 | G | Water Street Healthcare Partners III, L.P.; MedPlast Holdings, Inc.; Water Street Healthcare Partners III, L.P.
20170241 | G | Genstar Capital Partners VII, L.P.; David D. Morgan; Genstar Capital Partners VII, L.P.
20170246 | G | Blackstone Capital Partners VII L.P.; Team Health Holdings, Inc.; Blackstone Capital Partners VII L.P.
20170252 | G | Greencore Group plc; Charlesbank Equity Fund VII, Limited Partnership; Greencore Group plc.
20170260 | G | Leviton Manufacturing Co., Inc.; Allan B. Hubbard; Leviton Manufacturing Co., Inc.
20170264 | G | NuStar Energy L.P.; Martin Midstream Partners L.P.; NuStar Energy L.P.
20170266 | G | AP VIII DSB Holdings, L.P.; Ascension Health Alliance; AP VIII DSB Holdings, L.P.
20170268 | G | Kendall Automotive Group, Inc.; Gayle and James Chalfant; Kendall Automotive Group, Inc.
20170269 | G | Kendall Automotive Group, Inc.; David and Lorraine Edmark; Kendall Automotive Group, Inc.
20170271 | G | Ascent Holdings, LLC; Fulcrum BioEnergy, Inc.; Ascent Holdings, LLC.
20170272 | G | JBG SMITH Properties; JBG/Operating Partners, L.P.; JBG SMITH Properties.
20170280 | G | Blue Star Parent, L.P.; Ansira Holdings, LLC; Blue Star Parent, L.P.
20170289 | G | Antelope NewCo, Inc.; AlixPartners Holdings, LLP; Antelope NewCo, Inc.
11/30/2016
20170159 | G | The Hearst Family Trust; GTCR Fund X/A LP; The Hearst Family Trust.
20170169 | G | Insight MB Parent LLC; MB Parent Holdings, LLC; Insight MB Parent LLC.
20170274 | G | Quintiles IMS Holdings, Inc.; Jon C. Anderson; Quintiles IMS Holdings, Inc.
20170279 | G | Calpine Corporation; NAPGS Holdco, LLC; Calpine Corporation.
20170281 | G | Adobe Systems Incorporated; TubeMogul, Inc.; Adobe Systems Incorporated.
20170284 | G | CENTRO ARTE SCIENZA E TECNOLOGIA S.R.L.; Nestle S. A.; CENTRO ARTE SCIENZA E TECNOLOGIA S.R.L.
20170296 | G | Bain Capital Fund XI, L.P.; Blue Nile, Inc.; Bain Capital Fund XI, L.P.
20170298 | G | AIPCF VI AIV Moly-Cop (Cayman), LP; Arrium Limited; AIPCF VI AIV Moly-Cop (Cayman), LP.
20170300 | G | Wind Point Partners, VIII-A, L.P.; Michael J. Baab; Wind Point Partners, VIII-A, L.P.
20170306 | G | AIM Marina Holdings, LLC; John D. Brewer, Jr. and Margaret S. Brewer; AIM Marina Holdings, LLC.

FOR FURTHER INFORMATION CONTACT: Theresa Kingsberry Program Support Specialist, Federal Trade Commission Premerger Notification Office Bureau of Competition, Room CC-5301, Washington, DC 20024, (202) 326-3100.

By direction of the Commission.
Donald S. Clark
Secretary.

[FR Doc. 2016-29771 Filed 12-12-16; 8:45 am]

BILLING CODE 6750-01-P